DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the flood plain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for flood plain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Christian County, Kentucky, and Incorporated Areas Docket No.: FEMA-B-7726
Little River | Approximately 250 feet upstream of Huffman Mill Road | +495 | Christian County (Unincorporated Areas).
| At confluence with North Fork Little River and South Fork Little River | +505
Montgomery Branch | Approximately 1,000 feet upstream of Louisville and Nashville Railroad | +559 | City of Hopkinsville, Pembroke, Christian County (Unincorporated Areas).
| Approximately 1,500 feet downstream of Frank Yost Lane | +592
North Fork Little River | At confluence with Little River and South Fork Little River | +505 | City of Hopkinsville, Christian County (Unincorporated Areas).
| Approximately 1,000 feet upstream of Edward T. Breathitt Parkway | +535
Rock Bridge Branch | At confluence with South Fork Little River | +507 | City of Hopkinsville, Christian County (Unincorporated Areas).
| Approximately 3,600 feet upstream of Bradshaw Road | +572
Sanderson Creek | At confluence with North Fork Little River | +525 | City of Hopkinsville, Christian County (Unincorporated Areas).
| Approximately 2,200 feet upstream of KY-1682 | +553
Sinkhole 1 | Flooding Due to Sinkhole | +552 | City of Oak Grove.
Sinkhole 10 | Flooding Due to Sinkhole | +548 | City of Oak Grove.
Sinkhole 10A | Flooding Due to Sinkhole | +545 | City of Hopkinsville.
Sinkhole 11 | Flooding Due to Sinkhole | +548 | City of Oak Grove.
Sinkhole 11A | Flooding Due to Sinkhole | +548 | City of Hopkinsville.
Sinkhole 12 | Flooding Due to Sinkhole | +545 | City of Oak Grove.
| Flooding Due to Sinkhole | +545
Sinkhole 12A | Flooding Due to Sinkhole | +540 | City of Hopkinsville.
Sinkhole 13 | Flooding Due to Sinkhole | +544 | City of Oak Grove.
Sinkhole 13A | Flooding Due to Sinkhole | +535 | City of Hopkinsville.
Sinkhole 14 | Flooding Due to Sinkhole | +546 | City of Oak Grove.
Sinkhole 14A | Flooding Due to Sinkhole | +539 | City of Hopkinsville.
Sinkhole 15 | Flooding Due to Sinkhole | +546 | City of Oak Grove.
Sinkhole 15A | Flooding Due to Sinkhole | +544 | City of Hopkinsville.
Sinkhole 16 | Flooding Due to Sinkhole | +544 | City of Oak Grove.
Sinkhole 16A | Flooding Due to Sinkhole | +555 | City of Hopkinsville.
Sinkhole 17 | Flooding Due to Sinkhole | +542 | City of Oak Grove.
Sinkhole 18 | Flooding Due to Sinkhole | +540 | City of Oak Grove.
Sinkhole 18A | Flooding Due to Sinkhole | +523 | City of Hopkinsville.
Sinkhole 19 | Flooding Due to Sinkhole | +535 | City of Oak Grove.
Sinkhole 19A | Flooding Due to Sinkhole | +519 | City of Hopkinsville.
Sinkhole 1A | Flooding Due to Sinkhole | +568 | Christian County (Unincorporated Areas).
Sinkhole 2 | Flooding Due to Sinkhole | +546 | City of Oak Grove.
Sinkhole 20 | Flooding Due to Sinkhole | +539 | City of Oak Grove.
Sinkhole 20A | Flooding Due to Sinkhole | +522 | City of Hopkinsville.
Sinkhole 21 | Flooding Due to Sinkhole | +534 | City of Oak Grove.
Sinkhole 21A | Flooding Due to Sinkhole | +537 | Christian County (Unincorporated Areas).
Sinkhole 22 | Flooding Due to Sinkhole | +533 | City of Oak Grove.
Sinkhole 22A | Flooding Due to Sinkhole | +534 | Christian County (Unincorporated Areas).
Sinkhole 23 | Flooding Due to Sinkhole | +540 | City of Oak Grove.
Sinkhole 24 | Flooding Due to Sinkhole | +558 | City of Oak Grove.
Sinkhole 25 | Flooding Due to Sinkhole | +549 | City of Oak Grove.
Sinkhole 26 | Flooding Due to Sinkhole | +561 | City of Oak Grove.
| Flooding Due to Sinkhole | +561
Sinkhole 27 | Flooding Due to Sinkhole | +552 | City of Oak Grove.
Sinkhole 28 | Flooding Due to Sinkhole | +552 | City of Oak Grove.
Sinkhole 29 | Flooding Due to Sinkhole | +552 | City of Oak Grove.
Sinkhole 2A | Flooding Due to Sinkhole | +556 | Christian County (Unincorporated Areas).
Sinkhole 3 | Flooding Due to Sinkhole | +543 | City of Oak Grove.
Sinkhole 30 | Flooding Due to Sinkhole | +551 | City of Oak Grove.
Sinkhole 31 | Flooding Due to Sinkhole | +550 | City of Oak Grove.
Sinkhole 32 | Flooding Due to Sinkhole | +553 | City of Oak Grove.
Sinkhole 33 | Flooding Due to Sinkhole | +554 | City of Oak Grove.
Sinkhole 34 | Flooding Due to Sinkhole | +557 | City of Oak Grove.
Sinkhole 35 | Flooding Due to Sinkhole | +554 | City of Oak Grove.
Sinkhole 36 | Flooding Due to Sinkhole | +547 | City of Oak Grove.
Sinkhole 37 | Flooding Due to Sinkhole | +542 | City of Oak Grove.
Sinkhole 38 | Flooding Due to Sinkhole | +552 | City of Oak Grove.
Sinkhole 39 | Flooding Due to Sinkhole | +542 | City of Oak Grove.
Sinkhole 3A | Flooding Due to Sinkhole | +530 | Christian County (Unincorporated Areas).
Sinkhole 4 | Flooding Due to Sinkhole | +548 | City of Oak Grove.
Sinkhole 40 | Flooding Due to Sinkhole | +542 | City of Oak Grove.
Sinkhole 41 | Flooding Due to Sinkhole | +552 | City of Oak Grove.
Sinkhole 42 | Flooding Due to Sinkhole | +549 | City of Oak Grove.
Sinkhole 43 | Flooding Due to Sinkhole | +546 | City of Oak Grove, Christian County (Unincorporated Areas).
Sinkhole 44 | Flooding Due to Sinkhole | +560 | City of Oak Grove.
Sinkhole 45 | Flooding Due to Sinkhole | +564 | City of Oak Grove.
Sinkhole 46 | Flooding Due to Sinkhole | +563 | City of Oak Grove.
Sinkhole 47 | Flooding Due to Sinkhole | +541 | City of Oak Grove.
Sinkhole 48 | Flooding Due to Sinkhole | +556 | City of Oak Grove.
Sinkhole 49 | Flooding Due to Sinkhole | +560 | City of Oak Grove.
Sinkhole 4A | Flooding Due to Sinkhole | +537 | Christian County (Unincorporated Areas).
Sinkhole 5 | Flooding Due to Sinkhole | +543 | City of Oak Grove.
Sinkhole 50 | Flooding Due to Sinkhole | +558 | City of Oak Grove.
Sinkhole 51 | Flooding Due to Sinkhole | +560 | City of Oak Grove.
Sinkhole 52 | Flooding Due to Sinkhole | +567 | City of Oak Grove.
Sinkhole 53 | Flooding Due to Sinkhole | +569 | City of Oak Grove.
Sinkhole 54 | Flooding Due to Sinkhole | +569 | City of Oak Grove.
Sinkhole 55 | Flooding Due to Sinkhole | +568 | City of Oak Grove.
Sinkhole 56 | Flooding Due to Sinkhole | +530 | City of Oak Grove.
Sinkhole 57 | Flooding Due to Sinkhole | +532 | City of Oak Grove.
Sinkhole 58 | Flooding Due to Sinkhole | +549 | City of Oak Grove.
Sinkhole 59 | Flooding Due to Sinkhole | +567 | City of Oak Grove.
Sinkhole 5A | Flooding Due to Sinkhole | +542 | Christian County (Unincorporated Areas).
Sinkhole 6 | Flooding Due to Sinkhole | +549 | City of Oak Grove.
Sinkhole 60 | Flooding Due to Sinkhole | +558 | City of Oak Grove.
Sinkhole 61 | Flooding Due to Sinkhole | +584 | City of Oak Grove.
Sinkhole 62 | Flooding Due to Sinkhole | +590 | City of Oak Grove.
Sinkhole 66 | Flooding Due to Sinkhole | +501 | City of Oak Grove, Christian County (Unincorporated Areas).
Sinkhole 67 | Flooding Due to Sinkhole | +507 | City of Oak Grove, Christian County (Unincorporated Areas).
Sinkhole 68 | Flooding Due to Sinkhole | +504 | City of Oak Grove, Christian County (Unincorporated Areas).
Sinkhole 69 | Flooding Due to Sinkhole | +509 | City of Oak Grove.
Sinkhole 6A | Flooding Due to Sinkhole | +557 | Christian County (Unincorporated Areas), City of Hopkinsville.
Sinkhole 7 | Flooding Due to Sinkhole | +554 | City of Oak Grove.
| Flooding Due to Sinkhole | +554
Sinkhole 70 | Flooding Due to Sinkhole | +512 | City of Oak Grove.
Sinkhole 73 | Flooding Due to Sinkhole | +568 | City of Oak Grove.
Sinkhole 74 | Flooding Due to Sinkhole | +580 | City of Oak Grove.
Sinkhole 75 | Flooding Due to Sinkhole | +577 | City of Oak Grove.
Sinkhole 76 | Flooding Due to Sinkhole | +544 | City of Oak Grove.
Sinkhole 77 | Flooding Due to Sinkhole | +537 | City of Oak Grove.
Sinkhole 78 | Flooding Due to Sinkhole | +560 | Christian County (Unincorporated Areas).
Sinkhole 79 | Flooding Due to Sinkhole | +577 | Christian County (Unincorporated Areas).
Sinkhole 7A | Flooding Due to Sinkhole | +563 | Christian County (Unincorporated Areas).
Sinkhole 8 | Flooding Due to Sinkhole | +553 | City of Oak Grove.
Sinkhole 80 | Flooding Due to Sinkhole | +555 | City of Oak Grove.
Sinkhole 81 | Flooding Due to Sinkhole | +526 | Christian County (Unincorporated Areas).
Sinkhole 82 | Flooding Due to Sinkhole | +474 | City of Oak Grove, Christian County (Unincorporated Areas).
Sinkhole 83 | Flooding Due to Sinkhole | +533 | City of Oak Grove.
Sinkhole 84 | Flooding Due to Sinkhole | +536 | City of Oak Grove.
Sinkhole 85 | Flooding Due to Sinkhole | +537 | City of Oak Grove.
Sinkhole 86 | Flooding Due to Sinkhole | +538 | City of Oak Grove.
Sinkhole 87 | Flooding Due to Sinkhole | +534 | City of Oak Grove.
Sinkhole 88 | Flooding Due to Sinkhole | +543 | City of Oak Grove.
Sinkhole 89 | Flooding Due to Sinkhole | +541 | City of Oak Grove.
Sinkhole 8A | Flooding Due to Sinkhole | +563 | City of Oak Grove.
Sinkhole 9 | Flooding Due to Sinkhole | +547 | City of Oak Grove.
Sinkhole 90 | Flooding Due to Sinkhole | +539 | City of Oak Grove.
Sinkhole 91 | Flooding Due to Sinkhole | +543 | City of Oak Grove.
Sinkhole 92 | Flooding Due to Sinkhole | +544 | City of Oak Grove.
Sinkhole 93 | Flooding Due to Sinkhole | +541 | City of Oak Grove.
Sinkhole 94 | Flooding Due to Sinkhole | +547 | City of Oak Grove.
Sinkhole 95 | Flooding Due to Sinkhole | +541 | City of Oak Grove.
Sinkhole 96 | Flooding Due to Sinkhole | +550 | City of Oak Grove.
Sinkhole 9A | Flooding Due to Sinkhole | +537 | City of Hopkinsville.
Sinkhole I-24 | Flooding Due to Sinkhole | +561 | City of Oak Grove, Christian County (Unincorporated Areas).
Sinkhole Main Sink | Flooding Due to Sinkhole | +529 | City of Oak Grove, Christian County (Unincorporated Areas).
Sinkhole NF | Flooding Due to Sinkhole | +522 | City of Hopkinsville.
Sinkhole North West | Flooding Due to Sinkhole | +569 | City of Oak Grove.
Sinkhole South West | Flooding Due to Sinkhole | +530 | City of Oak Grove, Christian County (Unincorporated Areas).
South Fork Little River | At confluence with Little River and North Fork Little River | +505 | City of Hopkinsville, Christian County (Unincorporated Areas).
| Approximately 680 feet downstream of Dr. Martin Luther King Jr. Way | +541
South Fork Little River Tributary | Approximately 150 feet downstream of Dr. Martin Luther King Jr. Way | +537 | City of Hopkinsville, Christian County (Unincorporated Areas).
| Approximately 780 feet upstream of Harry Berry Lane | +557
White Creek | At confluence with Little River and North Fork Little River | +533 | City of Hopkinsville, Christian County (Unincorporated Areas). |  | Approximately 170 feet upstream of Madisonville Road | +540
* National Geodetic Vertical Datum.
+ North American Vertical Datum.
# Depth in feet above ground.
ADDRESSES
City of Hopkinsville
Maps are available for inspection at 101 North Main Street, Hopkinsville, KY 42240.
City of Oak Grove
Maps are available for inspection at 8505 Pembroke Oak Grove Road, Oak Grove, KY 42262.
City of Pembroke
Maps are available for inspection at 101 North Main Street, Hopkinsville, KY 42240.
Christian County (Unincorporated Areas)
Maps are available for inspection at 101 North Main Street, Hopkinsville, KY 42240.
Lexington-Fayette Urban County Government, Kentucky, and Incorporated Areas Docket No.: FEMA-D-7822
Bowman Mill Tributary | At the confluence with South Elkhorn Creek | +890 | Lexington-Fayette Urban County Government.
| Approximately 920 feet upstream of Palomar Boulevard | +940
Bryant Tributary | At the confluence with North Elkhorn Creek | +943 | Lexington-Fayette Urban County Government.
| Approximately 2,200 feet upstream of Polo Club Boulevard | +985
Cave Hill Tributary | At the confluence with Bowman Mill Tributary | +907 | Lexington-Fayette Urban County Government.
| Approximately 2,780 feet upstream of the confluence with Bowman Mill Tributary | +954
Southpoint Tributary | At the confluence with West Hickman Creek | +890 | Lexington-Fayette Urban County Government.
| Approximately 2,800 feet upstream of Southpoint Drive | +947
Wolf Run | Approximately 280 feet upstream of Beacon Hill Tributary | +922 | Lexington-Fayette Urban County Government.
| At Nicholasville Road | +990
* National Geodetic Vertical Datum.
+ North American Vertical Datum.
# Depth in feet above ground.
ADDRESSES
Lexington-Fayette Urban County Government
Maps are available for inspection at Division of Planning, Current Planning Section, 101 East Vine Street, Lexington, KY 40507.
Livingston County, Michigan, and Incorporated Areas Docket No.: FEMA-B-7726
Bogue Creek | Approximately 1,200 feet upstream of confluence of South Branch Shiawassee River | +842 | Township of Cohoctah, Township of Howell, Township of Oceola.
| Approximately 2 miles upstream of Curdy Road | +885
Conway Drain No. 1 | Downstream side of W Allen Road | +880 | Township of Conway.
| Upstream side of Sherwood Road | +885
Fonda Lake | Entire shoreline of Fonda Lake | +898 | Township of Brighton.
Halfmoon Lake | Entire shoreline of Halfmoon Lake | +885 | Township of Unadilla.
Handy Drain No. 5 | Approximately 1,600 feet upstream of Converse Road | +880 | Township of Handy.
| Approximately 90 feet downstream side of I-96 (East Bound) | +893
Handy Iosco Drain No. 1 | Approximately 1,100 feet downstream of Layton Road | +888 | Township of Handy, Township of Howell, Township of Iosco.
| Upstream side of Mason Road | +907
Island Lake | Entire shoreline of Island Lake | +889 | Township of Brighton.
Marion and Genoa Drain | Approximately 525 feet upstream of confluence of South Branch Shiawassee River | +882 | Township of Marion, City of Howell, Township of Genoa.
| Approximately 80 feet upstream of Beck Road | +913
Middle Branch Red Cedar River | Approximately 1,200 feet upstream of the confluence of Red Cedar River | +886 | Township of Handy, Township of Iosco.
| Upstream side of W Coon Lake Road | +894
Mirror Lake | Entire shoreline of Mirror Lake | +901 | Township of Green Oak.
Patterson Lake | Entire shoreline of Patterson Lake | +886 | Township of Unadilla.
Portage Lake | Entire shoreline of Portage Lake | +852 | Township of Hamburg.
Red Cedar River | Approximately 150 feet downstream of N Nicholson Road | +880 | Township of Conway, Township of Handy, Township of Howell, Township of Marion, Village of Fowlerville.
| Approximately 90 feet upstream of W Coon Lake Road | +934
South Branch Shiawassee River | Approximately 280 feet downstream of Oak Grove Road | +850 | Township of Cohoctah, Township of Howell.
| Approximately 0.7 mile downstream of Bowen Road | +864
Thompson Lake | Entire shoreline of Thompson Lake | +907 | Township of Oceola.
Tributary to North Ore Creek | Approximately 1,400 feet upstream of Clyde Road | +911 | Township of Hartland, Township of Oceola.
| Upstream side of N Hacker Road | +1002
Tributary to Red Cedar River | Confluence of Red Cedar River and Tributary to Red Cedar River | +883 | Village of Fowlerville, Township of Handy.
| Approximately 1,650 feet upstream of Pinewood Drive | +899
West Branch Red Cedar River | Approximately 1,100 feet downstream of Renee Court | +878 | Township of Conway, Township of Handy.
| Approximately 400 feet downstream of I-96 Westbound | +881
Woodland Lake | Entire shoreline of Woodland Lake | +936 | Township of Brighton.
* National Geodetic Vertical Datum.
+ North American Vertical Datum.
# Depth in feet above ground.
ADDRESSES
City of Brighton
Maps are available for inspection at 200 N. First Street, Brighton, MI 48116.
Township of Cohoctah
Maps are available for inspection at 10518 Antcliff Road, Fowlerville, MI 48836.
Township of Conway
Maps are available for inspection at 8015 N. Fowlerville Road, Fowlerville, MI 48836.
Township of Deerfield
Maps are available for inspection at 4492 Center Road, Linden, MI 48451.
Township of Genoa
Maps are available for inspection at 2911 Dorr Road, Brighton, MI 48116.
Township of Green Oak
Maps are available for inspection at 1001 Silver Lake Road, Brighton, MI 48116-8361.
Township of Hamburg
Maps are available for inspection at 10405 Merrill Road, Whitmore Lake, MI 48189.
Township of Handy
Maps are available for inspection at 136 N. Grand Avenue, Fowlerville, MI 48836.
Township of Hartland
Maps are available for inspection at 3191 Hartland Road, Hartland, MI 48353.
Township of Howell
Maps are available for inspection at 3525 Byron Road, Howell, MI 48855.
Township of Iosco
Maps are available for inspection at 2050 Bradley Road, Webberville, MI 48892.
Township of Marion
Maps are available for inspection at 2877 W. Coon Lake Road, Howell, MI 48843.
Township of Oceola
Maps are available for inspection at 1577 N. Latson Road, Howell, MI 48843.
Township of Putnam
Maps are available for inspection at 131 S. Howell Street, Pinckney, MI 48169.
Township of Tyrone
Maps are available for inspection at 10408 Center Road, Fenton, MI 48430.
Township of Unadilla
Maps are available for inspection at 126 Webb Street, Gregory, MI 48137.
Village of Fowlerville
Maps are available for inspection at 213 S. Grand Avenue, Fowlerville, MI 48836.
Village of Pinckney
Maps are available for inspection at 220 S. Howell Street, Pinckney, MI 48169.
Davie County, North Carolina and Incorporated Areas Docket No.: FEMA-D-7812
Baxter Creek | At the confluence with Bear Creek | +680 | Unincorporated Areas of Davie County.
| Approximately 1.1 miles upstream of the confluence with Bear Creek | +692
Bear Creek | At the confluence with South Yadkin River | +671 | Unincorporated Areas of Davie County, Town of Mocksville.
| Approximately 310 feet downstream of Duke Whittaker Road (State Road 1316) | +811
Bear Creek Tributary 1 | At the confluence with Bear Creek | +688 | Unincorporated Areas of Davie County.
| Approximately 580 feet upstream of Railroad | +698
Bear Creek Tributary 2 | At the confluence with Bear Creek | +700 | Unincorporated Areas of Davie County, Town of Mocksville.
| Approximately 740 feet upstream of South Davie Drive | +769
Bear Creek Tributary 3 | At the confluence with Bear Creek | +708 | Unincorporated Areas of Davie County, Town of Mocksville.
| Approximately 860 feet upstream of Valley Road | +763
Bear Creek Tributary 3A | At the confluence with Bear Creek Tributary 3 | +714 | Unincorporated Areas of Davie County, Town of Mocksville.
| Approximately 0.5 mile upstream of the confluence of Bear Creek Tributary 3 | +743
Bear Creek Tributary 4 | At the confluence with Bear Creek | +711 | Unincorporated Areas of Davie County, Town of Mocksville.
| Approximately 240 feet upstream of U.S. 64 Highway W | +735
Bear Creek Tributary 5 | At the confluence with Bear Creek | +767 | Unincorporated Areas of Davie County.
| Approximately 410 feet upstream of Ralph Ratledge Road (State Road 1312) | +776
Beaver Creek | At the confluence with Hunting Creek | +702 | Unincorporated Areas of Davie County.
| Approximately 90 feet downstream of Castle Lane | +731
Beaver Creek Tributary 1 | At the confluence with Beaver Creek | +703 | Unincorporated Areas of Davie County.
| Approximately 0.6 mile upstream of U.S. 64 Highway W | +738
Becks Spring Branch | At the confluence with Dutchman Creek | +699 | Unincorporated Areas of Davie County.
| Approximately 0.6 mile upstream of Eatons Church Road (State Road 1415) | +726
Bryant Branch | At the confluence with Dutchman Creek | +690 | Unincorporated Areas of Davie County.
| Approximately 120 feet upstream of Lutz Lane | +715
Buffalo Creek | At the confluence with Dutchman Creek | +669 | Unincorporated Areas of Davie County.
| Approximately 1.2 miles upstream of Milling Road | +690
Cain Mill Branch | At the confluence with Steelman Creek | +795 | Unincorporated Areas of Davie County.
| At the Davie/Yadkin County boundary | +795
Carter Creek | At the confluence with Yadkin River | +692 | Unincorporated Areas of Davie County.
| At NC 801 | +699
Carter Creek Tributary | At the confluence with Carter Creek | +692 | Unincorporated Areas of Davie County.
| Approximately 0.7 mile upstream of the confluence with Carter Creek | +698
Cedar Creek | At the confluence with Dutchman Creek | +673 | Unincorporated Areas of Davie County.
| Approximately 2.4 miles upstream of Wyo Road (State Road 1430) | +784
Chinquapin Creek | At the confluence with Dutchman Creek | +729 | Unincorporated Areas of Davie County.
| At the Davie/Yadkin County boundary | +788
Cody Creek | The confluence with the Yadkin River | +658 | Unincorporated Areas of Davie County.
| Approximately 0.5 mile upstream of NC 801 | +709
Cub Creek | At the confluence with Cedar Creek | +674 | Unincorporated Areas of Davie County.
| Approximately 1.0 mile upstream of the confluence with Cedar Creek | +687
Dry Branch | At the confluence with Dutchman Creek | +737 | Unincorporated Areas of Davie County.
| Approximately 0.7 mile upstream of Chinquapin Road | +781
Dutchman Creek | At the confluence with the Yadkin River | +661 | Unincorporated Areas of Davie County.
| Approximately 0.4 mile upstream of Amber Hill Road (State Road 1325) | +811
Dutchman Creek Tributary 2 | At the confluence with Dutchman Creek | +661 | Unincorporated Areas of Davie County.
| Approximately 0.6 mile upstream of NC 801 | +681
Dutchman Creek Tributary 3 | At the confluence with Dutchman Creek | +661 | Unincorporated Areas of Davie County.
| Approximately 1.2 miles upstream of Frank Short Road | +705
Dutchman Creek Tributary 4 | At the confluence with Dutchman Creek | +683 | Unincorporated Areas of Davie County.
| Approximately 640 feet upstream of Woodward Road (State Road 1407) | +695
Dutchman Creek Tributary 5 | At the confluence with Dutchman Creek | +776 | Unincorporated Areas of Davie County.
| Approximately 1.0 mile upstream of Ben Anderson Road (State Road 1321) | +800
Dutchman Creek Tributary 6 | At the confluence with Dutchman Creek | +784 | Unincorporated Areas of Davie County.
| Approximately 300 feet upstream of Davie/Iredell County boundary | +822
Elisha Creek | At the confluence with Dutchman Creek | +667 | Unincorporated Areas of Davie County, Town of Mocksville.
| Approximately 1,560 feet upstream of the confluence of Elisha Creek Tributary | +712
Elisha Creek Tributary | At the confluence with Elisha Creek | +706 | Unincorporated Areas of Davie County, Town of Mocksville.
| Approximately 0.8 mile upstream of the confluence with Elisha Creek | +719
Elsworth Creek | At the confluence with Dutchman Creek | +664 | Unincorporated Areas of Davie County.
| Approximately 1.2 miles upstream of Williams Road (State Road 1610) | +699
Frost Mill Creek | At the confluence with Dutchman Creek | +688 | Unincorporated Areas of Davie County.
| Approximately 0.4 mile upstream of Cana Road (State Road 1408) | +744
Fulton Creek | At the confluence with the Yadkin River | +677 | Unincorporated Areas of Davie County.
| Approximately 1,080 feet upstream of Markland Road (State Road 1618) | +714
Greasy Creek | At the confluence with Dutchman Creek | +699 | Unincorporated Areas of Davie County.
| Approximately 2.0 miles upstream of Eatons Church Road (State Road 1415) | +757
Hauser Creek | Approximately 100 feet downstream of the Davie/Yadkin County boundary | +711 | Unincorporated Areas of Davie County.
| Approximately 0.7 mile upstream of Spillman Road (State Road 1458) | +725
Howard Branch | At the confluence with Dutchman Creek | +730 | Unincorporated Areas of Davie County.
| Approximately 1.3 miles upstream of Jack Booe Road (State Road 1330) | +772
Humpy Creek | At the confluence with Dutchman Creek | +661 | Unincorporated Areas of Davie County.
| Approximately 680 feet upstream of Riverview Road (State Road 1814) | +686
Hunting Creek | At the confluence with South Yadkin River | +674 | Unincorporated Areas of Davie County.
| At the Davie/Iredell County boundary | +724
Hunting Creek Tributary 1 | At the confluence with Hunting Creek | +690 | Unincorporated Areas of Davie County.
| Approximately 140 feet downstream of Godbey Road (State Road 1150) | +707
Hunting Creek Tributary 1A | At the confluence with Hunting Creek Tributary 1 | +690 | Unincorporated Areas of Davie County.
| Approximately 1,420 feet upstream of I-40 Highway W | +701
Hunting Creek Tributary 2 | At the confluence with Hunting Creek | +715 | Unincorporated Areas of Davie County.
| Approximately 0.4 mile upstream of County Line Road (State Road 1338) | +752
Hunting Creek Tributary 3 | At the confluence with Hunting Creek | +719 | Unincorporated Areas of Davie County.
| Approximately 0.8 mile upstream of the confluence with Hunting Creek | +731
Leonard Creek | At the confluence with Dutchman Creek | +666 | Unincorporated Areas of Davie County, Town of Mocksville.
| Approximately 1,610 feet upstream of the confluence of Leonard Creek Tributary 1 | +698
Leonard Creek Tributary 1 | At the confluence with Leonard Creek | +689 | Unincorporated Areas of Davie County, Town of Mocksville.
| Approximately 500 feet upstream of the confluence of Leonard Creek Tributary 1B | +739
Leonard Creek Tributary 1A | At the confluence with Leonard Creek Tributary 1 | +701 | Unincorporated Areas of Davie County, Town of Mocksville.
| Approximately 0.8 mile upstream of the confluence with Leonard Creek Tributary 1 | +725
Little Bear Creek | At the confluence with Bear Creek | +739 | Unincorporated Areas of Davie County.
| Approximately 700 feet downstream of Black Welder Road (State Road 1309) | +798
Little Creek (North) | At the confluence with South Yadkin River | +682 | Unincorporated Areas of Davie County.
| Approximately 100 feet upstream of the Davie/Iredell County boundary | +799
Little Creek Tributary 1 | At the confluence with Little Creek (North) | +750 | Unincorporated Areas of Davie County.
| Approximately 640 feet upstream of Crescent Drive (State Road 1157) | +760
Nelson Creek | At the confluence with Elisha Creek | +693 | Unincorporated Areas of Davie County, Town of Mocksville.
| Approximately 0.5 mile upstream of the confluence of Nelson Creek Tributary 1 | +740
Nelson Creek Tributary 1 | At the confluence with Nelson Creek | +723 | Town of Mocksville.
| Approximately 660 feet upstream of Park Avenue | +758
Nelson Creek Tributary 1A | At the confluence with Nelson Creek Tributary 1 | +726 | Town of Mocksville.
| Approximately 1,260 feet upstream of the confluence with Nelson Creek Tributary 1 | +752
No Creek | At the confluence with Dutchman Creek | +661 | Unincorporated Areas of Davie County.
| Approximately 0.5 mile upstream of U.S. Highway 64 | +689
Noland Creek | At the confluence with Dutchman Creek | +675 | Unincorporated Areas of Davie County.
| Approximately 1,430 feet upstream of McClamrock Road (State Road 1640) | +687
Noland Creek Tributary 1 | At the confluence with Noland Creek | +676 | Unincorporated Areas of Davie County.
| Approximately 0.4 mile upstream of McClamrock Road | +695
Peeler Creek | At the confluence with Cody Creek | +658 | Unincorporated Areas of Davie County.
| Approximately 0.6 mile upstream of Will Boone Road (State Road 1802) | +696
Peoples Creek | At the confluence with the Yadkin River | +684 | Unincorporated Areas of Davie County.
| Approximately 1.5 miles upstream of Palomino Road | +770
Reedy Creek | At the confluence with the Yadkin River | +653 | Unincorporated Areas of Davie County.
| Approximately 400 feet downstream of Cherry Hill Road (State Road 1819) | +671
Sheek Creek | At the confluence with the Yadkin River | +702 | Unincorporated Areas of Davie County, Town of Bermuda Run.
| Approximately 1,640 feet upstream of Double A Trail | +722
Smith Creek | Approximately 1,000 feet upstream of Kingsmill Drive | +700 | Unincorporated Areas of Davie County, Town of Bermuda Run.
| Approximately 1,510 feet upstream of I-40 Highway W | +746
South Yadkin River | At the confluence with Yadkin River | +648 | Unincorporated Areas of Davie County, Town of Cooleemee.
| Approximately 1,100 feet upstream of the Rowan/Davie/Iredell County boundary | +699
South Yadkin River Tributary 1 | At the confluence with South Yadkin River | +656 | Unincorporated Areas of Davie County.
| Approximately 0.7 mile upstream of the confluence with South Yadkin River | +669
South Yadkin River Tributary 2 | At the confluence with South Yadkin River | +656 | Unincorporated Areas of Davie County.
| Approximately 2,000 feet upstream of the confluence of South Yadkin River Tributary 2B | +656
South Yadkin River Tributary 2A | At the confluence with South Yadkin River Tributary 2 | +656 | Unincorporated Areas of Davie County.
| Approximately 1,590 feet downstream of Pine Ridge Road (State Road 1103) | +656
South Yadkin River Tributary 2B | At the confluence with South Yadkin River Tributary 2 | +656 | Unincorporated Areas of Davie County.
| Approximately 0.4 mile upstream of the confluence with South Yadkin River Tributary 2 | +660
South Yadkin River Tributary 3 | At the confluence with South Yadkin River | +690 | Unincorporated Areas of Davie County.
| Approximately 0.6 mile upstream of the confluence with South Yadkin River | +691
South Yadkin River Tributary 4 | At the confluence with South Yadkin River | +693 | Unincorporated Areas of Davie County.
| Approximately 0.5 mile upstream of the confluence with South Yadkin River | +695
Steelman Creek | At the confluence with Dutchman Creek | +740 | Unincorporated Areas of Davie County.
| Approximately 0.4 mile upstream of the confluence of Cain Mill Branch | +795
Sugar Creek | At the confluence with Cedar Creek | +681 | Unincorporated Areas of Davie County.
| Approximately 370 feet upstream of Bobbit Road (State Road 1444) | +742
Sugar Creek Tributary 1 | At the confluence with Sugar Creek | +729 | Unincorporated Areas of Davie County.
| Approximately 80 feet downstream of Rainbow Road (State Road 1441) | +737
Yadkin River | At the Davie/Davidson/Rowan County boundary | +648 | Unincorporated Areas of Davie County, Town of Bermuda Run.
| Approximately 1,500 feet upstream of the Forsyth/Davie/Yadkin County boundary | +711
Yadkin River Tributary 1 | At the confluence with the Yadkin River | +678 | Unincorporated areas of Davie County.
| Approximately 780 feet upstream of Todd Road (State Road 1645) | +678
Yadkin River Tributary 3 | At the confluence with Yadkin River | +695 | Town of Bermuda Run.
| Approximately 450 feet upstream of Bridge Street | +703
* National Geodetic Vertical Datum.
+ North American Vertical Datum. | # Depth in feet above ground.
ADDRESSES
Town of Bermuda Run
Maps are available for inspection at Bermuda Run Town Hall, 169 Yadkins Valley Road, Suite 100, Advance, North Carolina.
Town of Cooleemee
Maps are available for inspection at Cooleemee Town Hall, 7766 NC Highway 801 South, Cooleemee, North Carolina 270141.
Town of Mocksville
Maps are available for inspection at Mocksville Town Hall, 171 Clement Street, Mocksville, North Carolina.
Unincorporated Areas of Davie County
Maps are available for inspection at Davie County Development Services, 172 Clement Street, Mocksville, North Carolina.

(Catalog of Federal Domestic Assistance No. 97.022, “Flood Insurance.”)

Dated: March 25, 2008.
David I. Maurstad,
Federal Insurance Administrator of the National Flood Insurance Program, Department of Homeland Security, Federal Emergency Management Agency.

[FR Doc. E8-6914 Filed 4-8-08; 8:45 am]

BILLING CODE 9110-12-P